DEPARTMENT OF THE TREASURY

Internal Revenue Service

26 CFR Part 602

[TD 9046]

RIN 1545-AX81; 1545-BB49; 1545-BB50; 1545-BB48; 1545-BB53; 1545-BB51; 1545-BB52; 1545-AW26; 1545-AX79

Tax Shelter Regulations; Correction

AGENCY: Internal Revenue Service (IRS), Treasury.

ACTION: Correction to final regulations.

SUMMARY: This document contains corrections to final regulations (TD 9046) which were published in the Federal Register on Tuesday, March 4, 2003 (68 FR 10161), relating to tax shelter regulations.

DATES: This correction is effective March 4, 2003.

FOR FURTHER INFORMATION CONTACT: Tara P. Volungis or Charlotte Chyr at (202) 622-3070 (not a toll-free number).

SUPPLEMENTARY INFORMATION:

Background

The final regulations that are subject to these corrections are under sections 6011(a), 6111(d) and 6112 of the Internal Revenue Code.

Need for correction

As published, final regulations (TD 9046) contains errors that may prove to be misleading and are in need of clarification.

Correction of Publication

Accordingly, the publication of final regulations (TD 9046), which was the subject of FR Doc. 03-4958, is corrected as follows:

§ 602.101 [Corrected]

1. On page 10178, column 2, in the first table under § 602.101(b), the entry for 301.6112-1T in the table is corrected by removing the OMB number “1545-1686” and adding new OMB numbers to read as follows:

* * * * *

(b) * * *

CFR part or section where identifed and described | Current OMB control No.
* * * * *
301.6112-1T | 1545-0865
| 1545-1686
* * * * *

2. On page 10178, column 2, in the second table under § 602.101(b), the entry for 301.6112-1 in the table is corrected by removing the OMB number “1545-1686” and adding new OMB numbers to read as follows:

* * * * *

(b) * * *

CFR part or section where identified and described | Current OMB control No.
* * * * *
301.6112-1 | 1545-0865
| 1545-1686
* * * * *

Cynthia E. Grigsby,
Chief, Regulations Unit, Associate Chief Counsel, (Procedure & Administration).

[FR Doc. 03-7733 Filed 4-01-03; 8:45 am]

BILLING CODE 4830-01-M